DEPARTMENT OF DEFENSE

GENERAL SERVICES ADMINISTRATION

NATIONAL AERONAUTICS AND SPACE ADMINISTRATION

[OMB Control No. 9000-XXXX]

Submission for OMB Review; Small Business Size Rerepresentation

AGENCIES: Department of Defense (DOD), General Services Administration (GSA), and National Aeronautics and Space Administration (NASA).

ACTION: Notice of request for comments regarding a new OMB clearance.

SUMMARY: Under the provisions of the Paperwork Reduction Act of 1995 (44 U.S.C. Chapter 35), the Federal Acquisition Regulation (FAR) Secretariat will be submitting to the Office of Management and Budget (OMB) a request for approval of a new information collection requirement regarding small business size rerepresentation. A request for public comments was published in the Federal Register at 72 FR 36852, July 5, 2007. No comments were received.

DATES: Submit comments on or before: November 28, 2008.

ADDRESSES: Submit comments regarding this burden estimate or any other aspect of this collection of information, including suggestions for reducing this burden to the Regulatory Secretariat (VPR), General Services Administration, Room 4041, 1800 F Street, NW., Washington, DC 20405. Please cite OMB Control No. 9000-XXXX, Small Business Size Rerepresentation, in all correspondence.

FOR FURTHER INFORMATION CONTACT Ms. Rhonda Cundiff, Contract Policy Division, GSA (202) 501-0044.

SUPPLEMENTARY INFORMATION:

A. Purpose

The purpose of implementing small business rerepresentation in the FAR is to ensure that small business size status is accurately represented and reported over the life of long-term contracts. The FAR also provides for provisions designed to ensure more accurate reporting of size status for contracts that are novated, merged or acquired by another business. This information is used by the SBA, Congress, Federal agencies and the general public for various reasons such as determining if agencies are meeting statutory goals, set-aside determinations, and market research.

B. Annual Reporting Burden

Respondents: 10,000.

Responses Per Respondent: 1.

Hours Per Response: 0.5.

Total Burden Hours: 5,000.

OBTAINING COPIES OF PROPOSALS: Requesters may obtain a copy of the information collection documents from the General Services Administration, Regulatory Secretariat (VPR), 1800 F Street, NW, Room 4041, Washington, DC 20405, telephone (202) 501-4755. Please cite OMB Control No. 9000-XXXX, Small Business Size Rerepresentation, in all correspondence.

Dated: October 23, 2008.
Al Matera,
Director, Office of Acquisition Policy.

[FR Doc. E8-25745 Filed 10-28-08; 8:45 am]

BILLING CODE 6820-EP-S